DEPARTMENT OF THE INTERIOR

Bureau of Land Management

[LLCAC930000.L1430000.EU0000. CACA 053519]

Notice of Realty Action: Direct Sale of Public Land in San Mateo County, CA

AGENCY: Bureau of Land Management, Interior.

ACTION: Notice of realty action.

SUMMARY: The Bureau of Land Management (BLM), Hollister Field Office, proposes to sell two separate parcels of public land totaling approximately 80 acres in San Mateo County, California. The public lands would be sold to the Sempervirens Fund, a California Nonprofit Corporation, for the appraised fair market value. The total appraised value of both parcels is $870,000.

DATES: Comments regarding the proposed sale must be received by the BLM on or before April 8, 2013.

ADDRESSES: Written comments concerning the proposed sale should be sent to the Field Manager, BLM, Hollister Field Office, 20 Hamilton Court, Hollister, California 95023.

FOR FURTHER INFORMATION CONTACT: Christine Sloand, Realty Specialist, BLM, Hollister Field Office, 20 Hamilton Court, Hollister, California 95023, or phone (831) 630-5022. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: The following public lands are proposed for direct sale in accordance with Sections 203 and 209 of the Federal Land Policy and Management Act of 1976 (FLPMA), as amended (43 U.S.C. 1713 and 1719).

Mount Diablo Meridian

Parcel No. 1

T. 8 S., R. 3 W.,

Sec. 23, NW¼NW¼.

The area described contains 40 acres in San Mateo County and is proposed for sale to the Sempervirens Fund for the appraised fair market value of $420,000.

Parcel No. 2

T. 8 S., R. 4 W.,

Sec. 9, NE¼SW¼.

The area described 40 acres and is proposed for sale to the Sempervirens Fund for the appraised fair market value of $450,000.

The areas described aggregate 80 acres, more or less, in Santa Mateo County, California.

The public land was first identified as suitable for disposal in the 1984 BLM Hollister Resource Management Plan (RMP) and remains available for sale under the 2007 Hollister RMP revision and is not needed for any other Federal purpose. The purpose of the sale is to dispose of public lands which are difficult and uneconomic to manage as part of the public lands and are not suitable for management by another Federal department or agency. The lands proposed for sale are considered to be difficult and uneconomic to manage because they lack legal access and are isolated from other public lands in the region. The public lands proposed for sale contain old growth Redwood forest and have been designated as critical habitat for the California red-legged frog. The BLM is proposing a direct sale to the Sempervirens Fund, whose mission is to protect and preserve redwood forests in California's Santa Cruz Mountains. The BLM has concluded that a competitive sale is not appropriate and that the public interest would best be served by a direct sale to the Sempervirens Fund. The BLM has completed a mineral potential report which concluded that, with the exception of oil and gas resources in parcel one, there are no known mineral values on the lands proposed for sale. The BLM proposes to reserve all mineral interests in parcel one and to convey all mineral interests in parcel two. The conveyance of all Federal mineral interests in parcel two would occur simultaneously with the sale of the land. The purchaser would be required to pay a $50 nonrefundable filing fee for processing the conveyance of the mineral interests.

On February 20, 2013, the above described land will be segregated from all forms of appropriation under the public land laws, including the mining laws, except for the sale provisions of the FLPMA. Until completion of the sale, the BLM will no longer accept land use applications affecting the identified public lands, except applications for the amendment of previously filed right-of-way applications or existing authorizations to increase the term of the grants in accordance with 43 CFR 2802.15 and 2886.15. The segregation terminates upon issuance of a patent, publication in the Federal Register of a termination of the segregation, or on February 20, 2015, unless extended by the BLM State Director in accordance with 43 CFR 2711.1-2(d) prior to the termination date. The land would not be sold until at least April 22, 2013. Any conveyance document issued would contain the following terms, conditions, and reservations:

1. A reservation of a right-of-way to the United States for ditches and canals constructed by authority of the United States under the Act of August 30, 1890 (43 U.S.C. 945).

2. A reservation of all mineral resources to the United States, together with the right by itself, its permittees, licensees and lessees to prospect for, mine, and remove the minerals under applicable law and such regulations as the Secretary of the Interior may prescribe (applies to parcel one only).

3. A condition that the conveyance be subject to all valid existing rights of record.

4. An appropriate indemnification clause protecting the United States from claims arising out of the patentee's use, occupancy, or operations on the patented lands.

5. Additional terms and conditions that the authorized officer deems appropriate.

Detailed information concerning the proposed sale including the appraisal, planning and environmental documents, and mineral report are available for review at the location identified in ADDRESSES above.

Public Comments regarding the proposed sale may be submitted in writing to the attention of the BLM Hollister Field Manager (see ADDRESSES above) on or before April 8, 2013. Comments received in electronic form, such as email will not be considered. Any adverse comments regarding the proposed sale will be reviewed by the BLM State Director or other authorized official of the Department of the Interior, who may sustain, vacate, or modify this realty action in whole or in part. In the absence of timely filed objections, this realty action will become the final determination of the Department of the Interior. Before including your address, phone number, email address, or other personal identifying information in your comment, be advised that your entire comment—including your personal identifying information—may be made publicly available at any time. While you can ask us in your comment to withhold from public review your personal identifying information, we cannot guarantee that we will be able to do so.

Authority: 43 CFR 2711.1-2(a) and (c)

Cynthia Staszak,
Associate Deputy State Director for Natural Resources.

[FR Doc. 2013-03810 Filed 2-19-13; 8:45 am]

BILLING CODE 4310-40-P